DEPARTMENT OF ENERGY

Federal Energy Regulatory Commission

Panel Member List for Hydropower Licensing Study Dispute Resolution; Notice Requesting Applications for Panel Member List for Hydropower Licensing Study Dispute Resolution

October 20, 2009.

This notice requests applications from those interested in being listed as potential panel members to assist in the Federal Energy Regulatory Commission's (Commission) study dispute resolution process for the integrated licensing process of hydropower projects.

Background

The Commission's integrated licensing process (ILP) regulations pertaining to hydroelectric licensing under the Federal Power Act encourages informal resolution of study disagreements. In cases where this is not successful, a formal study dispute resolution process is available for state and federal agencies or Indian tribes with mandatory conditioning authority.¹

¹ See § 5.14 of the final rule, which may be viewed on the Commission's Web site at http://www.access.gpo.gov/nara/cfr/waisidx_06/18cfr5_06.html.

The ILP provides that the disputed study must be submitted to a dispute resolution panel consisting of a person from Commission staff, a person from the agency or Indian tribe referring the dispute to the Commission, and a third person selected by the other two panelists from a pre-established list of persons with expertise in the disputed resource area.² The third panel member (TPM) will serve without compensation, except for certain allowable travel expenses to be borne by the Commission (31 CFR 301).

² These persons must not be otherwise involved with the proceeding.

The role of the panel members is to make a finding, with respect to each disputed study request, on the extent to which each study criteria set forth in the regulations is or is not met,³ and why. The panel will then make a recommendation to the Director of the Office of Energy Projects based on the panel's findings.

³ See § 5.9 of the final rule.

TPMs can only be selected from a list of qualified persons (TPM List) that is developed and maintained by the Commission. This notice seeks additional members for the TPM list, which was originally compiled in 2004. Current members of the TPM list do not need to reapply. Each qualified panel member will be listed by area(s) and sub-area(s) of technical expertise, for example Fisheries Resources—instream flow. The TPM list will be available to the public on the Commission's Web site. All individuals submitting their applications to the Commission for consideration must meet the Commission's qualifications.

Application Contents

The applicant should describe in detail his/her qualifications in items 1-4 listed below.

1. Technical expertise, including education and experience in each resource area and sub-area for which the applicant wishes to be considered:

• Aquatic Resources

○ water quality

○ instream flows

○ fish passage

○ species specialists

1. bull trout

2. pacific salmon

3. Atlantic salmon and cluepeids

4. bass

5. lamprey

6. sturgeon

○ macroinvertebrates

○ threatened and endangered species

○ general

• Terrestrial Resources

○ wildlife biology

○ botany

○ wetlands ecology

○ threatened and endangered species

○ general

• Cultural Resources

○ architectural history

○ archeology

○ Indian tribes

• Recreational Resources

○ whitewater boating

○ instream flows

○ general

• Land use

○ shoreline management

○ general

• Aesthetics

○ noise

○ dark sky/nighttime artificial lighting

○ aesthetic instream flows

○ general

• Geology

○ geomorphology

○ erosion

○ general

• Socio-economics

• Engineering

○ civil engineering

☐ hydrology

☐ structural

○ hydraulic engineering

○ electrical engineering

○ general

2. Knowledge of the effects of construction and operation of hydroelectric projects.

3. Working knowledge of laws relevant to expertise, such as: the Fish and Wildlife Coordination Act, the Endangered Species Act, the Clean Water Act, the Coastal Zone Management Act, the Wild and Scenic Rivers Act, the Federal Power Act, or other applicable laws.

4. Ability to promote constructive communication about a disputed study.

How To Submit Applications

Applicants must submit their applications along with the names and contact information of three references. Applications will be evaluated as they are received, and each applicant will be individually notified of the Commission's decision.

Dates: The application period closes on February 15, 2010. Additional future application periods may be announced by the Commission as needed.

Addresses: Applications must be filed electronically via the Internet. See the instructions on the Commission's Web site (http://www.ferc.gov) under the “e-Filing” link. Applications should reference “Docket No. AD04-4-001, NOTICE REQUESTING APPLICATIONS FOR PANEL MEMBER LIST FOR HYDROPOWER LICENSING STUDY DISPUTE RESOLUTION”.

Other Information: Requests submitted must be in Word, Times New Roman 13 pt. font, and must not be longer than ten pages in length. Complete individual contact information must be provided, as formal interviews may be conducted either face to face or via teleconference as necessary prior to establishing the TPM List.

For Further Information Contact: David Turner, Federal Energy Regulatory Commission, Office of Energy Projects, 888 First Street, NE., Washington, DC 20426, (202) 502-6091, David.Turner@ferc.gov.

Kimberly D. Bose,
Secretary.

[FR Doc. E9-25871 Filed 10-27-09; 8:45 am]

BILLING CODE 6717-01-P